DEPARTMENT OF COMMERCE

National Oceanic and Atmospheric Administration

RIN 0648-XF121

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scientific and Statistical Committee (SSC) to consider actions affecting New England fisheries in the exclusive economic zone (EEZ). Recommendations from this group will be brought to the full Council for formal consideration and action, if appropriate.

DATES: This meeting will be held on Tuesday, January 17, 2017, beginning at 9 a.m.

ADDRESSES: The meeting will be held at the Courtyard Marriott, Boston Logan, 225 McClellan Highway, Boston, MA 02128; phone: (617) 561-0971.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The SSC Committee will review information provided by the Council's Groundfish Plan Development Team (PDT) and recommend the overfishing levels (OFLs) and acceptable biological catches (ABCs) for witch flounder for fishing years 2017 and 2018. They will receive a presentation on the revisions to the Magnuson Stevens Fishery Management and Conservation Act (MSA) National Standard 1 guidelines. Also on the agenda will be an update from the Council staff on the Council's efforts to develop a worked example of an Ecosystem-Based Fishery Management approach to fisheries management for Georges Bank. Other business will be discussed as needed.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: December 23, 2016.
Tracey L. Thompson,
Acting Deputy Director, Office of Sustainable Fisheries, National Marine Fisheries Service.

[FR Doc. 2016-31612 Filed 12-28-16; 8:45 am]

BILLING CODE 3510-22-P